DEPARTMENT OF COMMERCE

National Oceanic and Atmospheric Administration

50 CFR Part 622

[Docket No. 140819687-5583-02]

RTID 0648-XA842

Coastal Migratory Pelagic Resources of the Gulf of Mexico and Atlantic Region; 2020-2021 Commercial Closure for Spanish Mackerel in the Atlantic Southern Zone

AGENCY: National Marine Fisheries Service (NMFS), National Oceanic and Atmospheric Administration (NOAA), Commerce.

ACTION: Temporary rule; closure.

SUMMARY: NMFS closes the Atlantic southern zone for commercial Spanish mackerel in or from the Atlantic exclusive economic zone. NMFS has determined that the commercial quota for Spanish mackerel in the Atlantic southern zone will be reached by February 3, 2021. Therefore, NMFS closes the Atlantic southern zone to commercial harvest of Spanish mackerel on February 3, 2021. This closure is necessary to protect the Spanish mackerel resource in the Atlantic.

DATES: This temporary rule is effective from 6 a.m. eastern time on February 3, 2021, until 12:01 a.m. eastern time on March 1, 2021.

FOR FURTHER INFORMATION CONTACT: Mary Vara, NMFS Southeast Regional Office, telephone: 727-824-5305, or email: mary.vara@noaa.gov.

SUPPLEMENTARY INFORMATION: The fishery for coastal migratory pelagic fish in the Atlantic includes king mackerel, Spanish mackerel, and cobia on the east coast of Florida, and is managed under the Fishery Management Plan for the Coastal Migratory Pelagic Resources of the Gulf of Mexico and Atlantic Region (FMP). The FMP was prepared by the Gulf of Mexico and South Atlantic Fishery Management Councils and is implemented by NMFS under the authority of the Magnuson-Stevens Fishery Conservation and Management Act (Magnuson-Stevens Act) by regulations at 50 CFR part 622. All weights described for the Atlantic migratory group of Spanish mackerel (Atlantic Spanish mackerel) apply as either round or gutted weight.

For management purposes, the commercial sector of Atlantic Spanish mackerel is divided into northern and southern zones. The southern zone consists of Federal waters off South Carolina, Georgia, and the east coast of Florida. The southern zone boundaries extend from the border of North Carolina and South Carolina, which is a line extending in a direction of 135°34′55″ from true north beginning at 33°51′07.9″ N latitude and 78°32′32.6″ W longitude to the intersection point with the outward boundary of the U.S. exclusive economic zone, to the border of Miami-Dade and Monroe Counties in Florida at 25°20′24″ N latitude.

The southern zone commercial quota for Atlantic Spanish mackerel is 2,667,330 lb (1,209,881 kg). Regulations at 50 CFR 622.388(d)(1)(i) require NMFS to close the commercial sector for Atlantic Spanish mackerel in the southern zone when the commercial quota is reached, or is projected to be reached, by filing a notification to that effect with the Office of the Federal Register. NMFS has determined that the commercial quota for Atlantic Spanish mackerel in the southern zone will be reached by February 3, 2021. Accordingly, the commercial sector for Atlantic Spanish mackerel in the southern zone is closed effective at 6 a.m. eastern time on February 3, 2021, through February 28, 2021, the end of the current fishing year.

During the commercial closure, a person on a vessel that has been issued a valid Federal permit to harvest Atlantic Spanish mackerel may continue to retain this species in the southern zone under the recreational bag and possession limits specified in 50 CFR 622.382(a)(1)(iii) and (a)(2), as long as the recreational sector for Atlantic Spanish mackerel is open (50 CFR 622.384(e)(1)).

Also during the closure, Atlantic Spanish mackerel from the southern zone, including those harvested under the bag and possession limits, may not be purchased or sold. This prohibition does not apply to Atlantic Spanish mackerel from the southern zone that were harvested, landed ashore, and sold prior to the closure and were held in cold storage by a dealer or processor (50 CFR 622.384(e)(2)).

Commercial harvest of Atlantic Spanish mackerel in the southern zone for the 2021-2022 fishing year begins on March 1, 2021.

Classification

NMFS issues this action pursuant to section 305(d) of the Magnuson-Stevens Act. This action is required by 50 CFR 622.388(d)(1)(i), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the commercial closure for Atlantic Spanish mackerel have already been subject to notice and public comment, and all that remains is to notify the public of the commercial closure. Prior notice and opportunity for public comment on this action is contrary to the public interest because of the need to immediately implement the commercial closure to protect the Atlantic Spanish mackerel resource. The capacity of the fishing fleet allows for rapid harvest of the commercial quota, and any delay in the commercial closure could result in the commercial quota being exceeded. Prior notice and opportunity for public comment would require time and would potentially result in a harvest that exceeds the commercial quota.

For the aforementioned reasons, there is good cause under 5 U.S.C. 553(d)(3) to waive the 30-day delay in effectiveness of this action.

Authority: 16 U.S.C. 1801 et seq.

Dated: January 29, 2021.
Jennifer M. Wallace,
Acting Director, Office of Sustainable Fisheries, National Marine Fisheries Service.

[FR Doc. 2021-02235 Filed 1-29-21; 4:15 pm]

BILLING CODE 3510-22-P